DEPARTMENT OF HEALTH AND HUMAN SERVICES

Administration for Children and Families

Submission for Office of Management and Budget Review; Comprehensive Child Welfare Information System (CCWIS) Automated Function Checklist and Data Quality Plan (Office of Management and Budget #0970-0463)

AGENCY: Children's Bureau, Administration for Children and Families, U.S. Department of Health and Human Services.

ACTION: Request for public comments.

SUMMARY: The Administration for Children and Families (ACF) is requesting a three-year extension of the Comprehensive Child Welfare Information System (CCWIS) information collection (Office of Management and Budget (OMB) #0970-0463, expiration 6/30/2025). The CCWIS information collection includes the Automated Function List and the Data Quality Plan. There are no required instruments associated with the data collection and no changes to the data collection.

DATES: Comments due June 27, 2025. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: The CCWIS information collection includes two components:

• The Automated Function List update required pursuant to § 1355.52(i)(2);

• The Data Quality Plan update required pursuant to § 1355.52(d)(5).

The CCWIS regulations require updates of this information to confirm that the project meets CCWIS requirements and that project costs are appropriately allocated to benefiting programs.

Respondents: Title IV-E agencies under the Social Security Act.

Annual Burden Estimates
Instrument | Total number of respondents | Annual number of responses per respondent | Average burden hours per response | Annual burden hours
Automated Function List § 1355.52(i)(2) | 55 | 1 | 10 | 550
Data Quality Plan § 1355.52(d)(5) | 55 | 1 | 40 | 2,200
Estimated Total Annual Burden Hours |  |  |  | 2,750

Authority: 42 U.S.C. 621 et seq., 42 U.S.C. 670 et seq., 42 U.S.C. 1301 and 1302.

Mary C. Jones,
ACF/OPRE Certifying Officer.

[FR Doc. 2025-09517 Filed 5-27-25; 8:45 am]

BILLING CODE 4184-25-P